DEPARTMENT OF HEALTH AND HUMAN SERVICES

Centers for Disease Control and Prevention

[30Day-09-08BI]

Proposed Data Collections Submitted for Public Comment and Recommendations

The Centers for Disease Control and Prevention (CDC) publishes a list of information collection requests under review by the Office of Management and Budget (OMB) in compliance with the Paperwork Reduction Act (44 U.S.C. Chapter 35). To request a copy of these requests, call the CDC Reports Clearance Officer at (404) 639-5960 or send an e-mail to omb@cdc.gov. Send written comments to CDC Desk Officer, Office of Management and Budget, Washington, DC or by fax to (202) 395-6974. Written comments should be received within 30 days of this notice.

Proposed Project

Evaluation of the National Youth Violence Prevention Resource Center (NYVPRC)—New—National Center for Injury Prevention and Control (NCIPC), Centers for Disease Control and Prevention (CDC).

Background and Brief Description

The origin of the National Youth Violence Prevention Resource Center (NYVPRC) is woven into the federal response to the Columbine High School shootings in 1999. As the Nation took a broad look at the issue of violence occurring in school settings, it became clear that violence among adolescents stretched far beyond the walls of educational institutions and presented a complex threatening public health concern requiring a comprehensive response. To that end, the White House established the Council on Youth Violence in October 1999 to coordinate youth violence prevention activities of all federal agencies. The Council, in collaboration with CDC and other federal agencies, directed the development of NYVPRC to serve as a user-friendly, single point of entry to potentially life-saving information about youth violence prevention.

Since 1999, a substantial body of evidence has evolved to support the belief that youth violence can be prevented through the comprehensive, systematic application of effective approaches. A better understanding of the key influencers on the prevention of youth violence has emerged. Armed with this greater understanding, the NYVPRC's role has been refocused to better position it to respond to emerging needs.

This project will evaluate a pilot implementation of the revised NYVPRC Web site. The revised Web site will target local government and community leaders with youth violence-related online training, information resources and community workspace to build and sustain comprehensive, community-wide prevention efforts. The objectives of the NYVPRC pilot project are to determine (1) The usefulness and favorability of the online training, information resources and community workspaces, (2) the reach of targeted promotional efforts, and (3) progress made on short term outcomes. Four data collection tools will be used to measure these objectives: (1) user feedback surveys, (2) training surveys, (3) implementation interviews and (4) coalition capacity surveys.

The user feedback surveys will elicit feedback from users at various points on the NYVPRC Web site. The training surveys will be conducted during the online training available through the Web site. The implementation interviews and coalition capacity surveys will be conducted at the beginning of the pilot period as a baseline measure and again at the end of the 12-month pilot period. The baseline information will assist CDC in tailoring technical assistance that might be required by the pilot communities. The evaluation will then utilize these baseline measures along with the information collected following the pilot to assess the Web site's success at supporting the development of community-wide youth violence prevention coalitions and subsequent strategic planning.

The pre-post research design of the evaluation will aid CDC in assessing the changes in knowledge, attitudes, and resource capacity associated with the NYVPRC Web site and will inform revision of the Web site materials for a future nationwide launch. There is no cost to respondents for participation.

The total estimated annualized burden hours are 353.

Estimated Annualized Burden Hours
Type of respondent | Form name | Number of respondents | Number of responses/ respondent | Avg. burden/response (in hrs.)
General Public, coalition members, coalition leaders | Online Training Survey | 400 | 1 | 15/60
General Public, coalition members, coalition leaders | User Feedback Survey | 1000 | 1 | 5/60
Coalition Members | Coalition Member Survey | 120 | 2 | 30/60
Coalition Leaders | Coalition Leader Interviews | 50 | 2 | 30/60

Dated: March 27, 2009.
Maryam I. Daneshvar,
Acting Reports Clearance Officer, Centers for Disease Control and Prevention.

[FR Doc. E9-7413 Filed 4-1-09; 8:45 am]

BILLING CODE 4163-18-P